FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Worldgreen Shipping Line, Inc., 1371 S. Santa Fe Avenue, Compton, CA 90221. Officers: June Nan (David) Chiang, Vice President (Qualifying Individual), Hsin Yuan Huang, President.

Perfect Air & Sea Service Inc., 175-11 148th Avenue, Jamaica, NY 11434. Officers: Jack Lu, General Manager (Qualifying Individual), Patrick Chen, President.

Alliance Logistics, Inc., 2225 W. Commonwealth Avenue, Suite #103, Alhambra, CA 9180324. Officers: Francis Yefei Liang, CEO (Qualifying Individual), Polly Po-Lei Yeung, Director.

Pohl Logistics, Inc., 9297 McGreevey Road, Versailles, OH 45380. Officers: James M. Pack, Mgr. Of Logistics Development (Qualifying Individual), Harold J. Pohl, President.

Shelton Tomkinson, Inc., 1225 North Loop West, Ste. 432, Houston, TX 77008. Officers: Teresa Hendrix, Secretary (Qualifying Individual), Bradley Victor Skelton, Director/President.

Badua International, 8915 Mira Mesa Blvd., San Diego, CA 92126. Officer: Ronilio D. Badua, Sole Proprietor.

Netfrate LLC, 11 Hunters Path, Skillman, NJ 08558. Officer: Pavel Trubetskoy, President (Qualifying Individual).

APE Freight International Inc., 161-15 Rockaway Blvd., Suite 308, Jamaica, NY 11434. Officer: Philip Lou, President (Qualifying Individual).

Non-Vessel Operating Common Carrier and Ocean Freight Forwarder Transportation Intermediary Applicants

Lambert Maritime Express, Inc., 3352 Castle Drive, Kenner, LA 70065. Officers: Dina Patricia Derose, Secretary (Qualifying Individual), Manuel H. Lambert, President.

Anderson Cargo Services, Inc. dba Anderson Worldwide Logistics and Forwarding, Inc., 1045 Gemini Road, Fagan, MN 55121. Officers: Brian Wesely Anderson, CEO, Joel Ripley, Director of Logistics (Qualifying Individuals), Kathy Bear Anderson, CFO.

Ansa McAl (US) Inc. dba Amus Logistics, 11403 NW 39th Street, Miami, FL 33178. Officers: Steven P. Rosensteel, V. P. for Logistics (Qualifying Individual), Conrad O'Brien, President.

Ocean Freight Forwarder—Ocean Transportation Intermediary Applicants:

Ohanneson Freight Forwarding Co., 50 Indian Hill Road, Nicasio, CA 94946. Officer: Elizabeth A. Ohanneson, Sole Proprietor.

Gonzalez Exporting Corp. dba Goexco, 7349 NW 54th Street, Miami, FL 33166. Officers: Yolanda M. Gonzalez, President (Qualifying Individual), Dario Gonzalez, Director.

Shiplane Transport, Inc., 2620 N. Oak Park, Chicago, IL 60707. Officers: Elizabeth Esparza, President (Qualifying Individual).

Dated: June 25, 2004.
Bryant L. VanBrakle,
Secretary.

[FR Doc. 04-14877 Filed 6-29-04; 8:45 am]

BILLING CODE 6730-01-P